DEPARTMENT OF ENERGY

Federal Energy Regulatory Commission

[Docket No. CP19-220-000]

National Fuel Gas Supply Corporation; Notice of Request Under Blanket Authorization

Take notice that on April 24, 2019, National Fuel Gas Supply Corporation (National Fuel), 6363 Main Street, Williamsville, New York 14221, filed in Docket No. CP19-220-000, a Prior Notice Request pursuant to sections 157.205, 157.208, 157.210, and 157.216 of the Commission's regulations under the Natural Gas Act (NGA), and National Fuel's blanket certificate issued in Docket No. CP83-4-000, requesting authorization to abandon and replace 9.6 miles of 12-inch-diameter bare steel pipeline (Line FM100) and construct certain related natural gas facilities located in Jefferson and Elk Counties, Pennsylvania, as part of its Brockway Modernization Project. National Fuel states the proposed replacement is part of a multi-year modernization program to enhance the reliability and safety of its system, all as more fully described in the application which is on file with the Commission and open to public inspection. The filing may also be viewed on the web at http://www.ferc.gov using the “eLibrary” link. Enter the docket number excluding the last three digits in the docket number field to access the document. For assistance, contact FERC at FERCOnlineSupport@ferc.gov or call toll-free, (866) 208-3676 or TTY, (202) 502-8659.

Any questions regarding this prior notice should be directed to Jeffrey B. Same, Attorney, National Fuel Gas Supply Corporation, 6363 Main Street, Williamsville, New York 14221-5887, by telephone at (716) 857-7507, or by email at samej@natfuel.com.

Specifically, National Fuel proposes that the replacement project will include: (i) The installation of approximately 9.7 miles of 12-inch-diameter coated steel pipeline; (ii) the installation of approximately 0.4 miles of 6-inch-diameter pipeline lateral; (iii) the installation of a remote controlled mainline block valve; (iv) the installation of a new pig launcher/receiver; and (v) modifications to an existing metering station. National Fuel plans to begin construction commencing in summer 2019 and anticipates the facilities will be placed in-service by December 2019. National Fuel estimates the cost of the Brockway Modernization Project to be $24.2 million.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the EA for this proposal. The filing of the EA in the Commission's public record for this proceeding or the issuance of a Notice of Schedule for Environmental Review will serve to notify federal and state agencies of the timing for the completion of all necessary reviews, and the subsequent need to complete all federal authorizations within 90 days of the date of issuance of the Commission staff's EA.

Persons who wish to comment only on the environmental review of this project should submit an original and two copies of their comments to the Secretary of the Commission. Environmental commenters will be placed on the Commission's environmental mailing list and will be notified of any meetings associated with the Commission's environmental review process. Environmental commenters will not be required to serve copies of filed documents on all other parties. However, the non-party commenters will not receive copies of all documents filed by other parties or issued by the Commission and will not have the right to seek court review of the Commission's final order.

The Commission strongly encourages electronic filings of comments, protests, and interventions in lieu of paper using the “eFiling” link at http://www.ferc.gov. Persons unable to file electronically should submit an original and 3 copies of the protest or intervention to the Federal Energy regulatory Commission, 888 First Street NE, Washington, DC 20426.

Dated: May 6, 2019.
Kimberly D. Bose,
Secretary.

[FR Doc. 2019-09715 Filed 5-10-19; 8:45 am]

BILLING CODE 6717-01-P